SECURITIES AND EXCHANGE COMMISSION

[Release No. PA-56; File No. S7-21-20]

Privacy Act of 1974; System of Records

AGENCY: Securities and Exchange Commission.

ACTION: Rescindment of system of record notice.

SUMMARY: Pursuant to the Privacy Act of 1974 (5 U.S.C. 552a) and Office of Management and Budget (OMB) Circular No. A-108, the Securities and Exchange Commission (Commission or SEC) proposes to rescind four existing systems of records. The Notice of Rescindment identifies the system of records, explains why the SORN is being rescinded, and provides an account of what will happen to the records previously maintained in the system.

DATES: The rescindments will become effective on February 8, 2021.

ADDRESSES:

Comments may be submitted by any of the following methods:

Electronic Comments

• Use the Commission's internet comment form (https://www.sec.gov/rules/submitcomments.htm); or

• Send an email to rule-comments@sec.gov. Please include File Number S7-21-20 on the subject line.

Paper Comments

Send paper comments in triplicate to Vanessa A. Countryman, Secretary, U.S. Securities and Exchange Commission, 100 F Street NE, Washington, DC 20549-1090. All submissions should refer to S7-21-20. This file number should be included on the subject line if email is used. To help process and review your comments more efficiently, please use only one method. The Commission will post all comments on the Commission's internet website (http://www.sec.gov/rules/other.shtml). Comments are also available for website viewing and printing in the Commission's Public Reference Room, 100 F Street NE, Washington, DC 20549, on official business days between the hours of 10 a.m. and 3 p.m. All comments received will be posted without change; we do not edit personal identifying information from submissions. You should submit only information that you wish to make available publicly.

FOR FURTHER INFORMATION CONTACT: Ronnette McDaniel, Privacy and Information Assurance Branch Chief, 202-551-7200 or privacyhelp@sec.gov.

SUPPLEMENTARY INFORMATION: Four systems were identified for rescindment from the SEC's Privacy Act systems of records inventory. The SORNs were identified for rescindment because they are duplicative, and covered by another SEC system of records. OMB requires that each agency provide assurance that systems of records do not duplicate any existing agency or government-wide systems of records. A description of each rescindment justification, the applicable SORNs, and an account of what happened to the records is as follows:

1. SEC-19: Division of Corporation Finance and Support Office Working Files. The records in SEC-19 are duplicative of and share the same purpose as the records in SEC-68: SEC's Division of Corporation Finance Records, 83 FR 6892 (February 15, 2018).

2. SEC-29: Agency Correspondence Tracking System (ACTS). The records in SEC-29 are duplicative of and share the same purpose as the records in SEC-65: Investor Response Information System (IRIS), 76 FR 30213 (May 24, 2011).

3. SEC-58: System for Enforcement Case Tracking and Routing (SECTR). The records in SEC-58 are duplicative and share the same purpose as the records in SEC-70: SEC's Division of Trading and Market Records, 83 FR 6892 (February 15, 2018).

4. SEC-61: Municipal Advisor Records The records in SEC 61 are duplicative and share the same purpose as the records in SEC-62. Correspondence Files Pertaining to Municipal Advisors; Municipal Advisor Logs.

History:

System No. | Federal Register Number and publication date
SEC-19 | Division of Corporation Finance and Support Office Working Files 40 FR 39253 (August 27, 1975).
SEC-29 | Agency Correspondence Tracking System (ACTS) 40 FR 39253 (August 27, 1975) and 62 FR 47887 (September 11, 1997).
SEC-58 | System for Enforcement Case Tracking and Routing (SECTR) 74 FR 36281 (July 22, 2009).
SEC-61 | Municipal Advisor Records 75 FR 51854 (August 23, 2010).

By the Commission.
Dated: December 21, 2020.
Vanessa A. Countryman,
Secretary.

[FR Doc. 2020-28600 Filed 12-23-20; 8:45 am]

BILLING CODE 8011-01-P